DEPARTMENT OF ENERGY

Federal Energy Regulatory Commission

18 CFR Part 40

[Docket No. RM13-5-000]

Version 5 Critical Infrastructure Protection Reliability Standards

AGENCY: Federal Energy Regulatory Commission, Energy.

ACTION: Notice of Proposed Rulemaking; correction.

SUMMARY: This document contains corrections to the proposed rule (RM13-5-000) which was published in the Federal Register of Wednesday, April 24, 2013 (78 FR 24107). The regulations proposed to approve certain reliability standards proposed by the North American Electric Reliability Corporation.

DATES: Effective on June 24, 2013.

FOR FURTHER INFORMATION CONTACT: Kevin Ryan (Legal Information), Office of the General Counsel, Federal Energy Regulatory Commission, 888 First Street NE., Washington, DC 20426, Telephone: (202) 502-6840.

SUPPLEMENTARY INFORMATION:

Errata Notice

On April 18, 2013, the Commission issued an “Notice of Proposed Rulemaking” in the above-captioned proceeding, Version 5 Critical Infrastructure Protection Reliability Standards, 143 FERC ¶ 61,055 (2013).

This errata notice serves to correct P 119 and the table in P 124. Specifically, in P 119, the reference to “CIP version 4” in the fifth line is changed to “CIP version 5.” In addition, in the table in P 124, the “Total Burden Hours in Year 2” estimate is changed to “1,162,788 hrs” and the “Total Burden Hours in Year 3” estimate is changed to “757,948 hrs.”

In FR Doc. 2013-09643 appearing on page 24107 in the Federal Register of Wednesday, April 24, 2013, the same corrections are made:

1. On page 24121, the reference to “CIP version 4” in the fifth line is changed to “CIP version 5.”

2. On page 24122, the “Total Burden Hours in Year 2” estimate is changed to “1,162,788 hrs” and the “Total Burden Hours in Year 3” estimate is changed to “757,948 hrs.”

Dated: May 3, 2013.
Kimberly D. Bose,
Secretary.

[FR Doc. 2013-10956 Filed 5-8-13; 8:45 am]

BILLING CODE 6717-01-P